DEPARTMENT OF AGRICULTURE

Foreign Agricultural Service

Trade Adjustment Assistance for Farmers

AGENCY: Foreign Agricultural Service, USDA.

ACTION: Notice.

The Administrator, Foreign Agricultural Service (FAS), today terminated the certification of a petition for trade adjustment assistance (TAA) that was filed by a group of shrimp producers in Florida certified on April 5, 2004. Florida shrimp producers are no longer eligible for TAA benefits in fiscal year 2005.

SUPPLEMENTARY INFORMATION: Upon investigation, the Administrator determined that U.S. imports of shrimp fell by 11.4 million pounds between 2003 and 2004, a decline of 2.1 percent. Therefore, imports were no longer a contributing factor for program eligibility. An increase in imports is required for re-certifying a petition for TAA.

FOR FURTHER INFORMATION CONTACT: Jean-Louis Pajot, Coordinator, Trade Adjustment Assistance for Farmers, FAS, USDA, (202) 720-2916, e-mail: trade.adjustment@fas.usda.gov.

Dated: April 5, 2005.
Kenneth J. Roberts,
Acting Administrator, Foreign Agricultural Service.

[FR Doc. 05-7646 Filed 4-15-05; 8:45 am]

BILLING CODE 3410-10-P